DEPARTMENT OF HEALTH AND HUMAN SERVICES

Health Resources and Services Administration

Advisory Council on Blood Stem Cell Transplantation; Notice of Meeting

In accordance with section 10(a)(2) of the Federal Advisory Committee Act (Public Law 92-463), notice is hereby given of the following meeting:

Name: Advisory Council on Blood Stem Cell Transplantation (ACBSCT).

Date and Time: November 08, 2011, 10 am to 4 pm EDT.

Place: The meeting will be via audio conference call and Adobe Connect Pro.

Status: The meeting will be open to the public.

Purpose: Pursuant to Public Law 109-129, 42 U.S.C. 274k (section 379 of the Public Health Service Act, as amended,) the Advisory Council on Blood Stem Cell Transplantation (ACBSCT) advises the Secretary of HHS and the Administrator, HRSA, on matters related to the activities of the C.W. Bill Young Cell Transplantation Program (Program) and the National Cord Blood Inventory (NCBI) Program.

Agenda: The Council will hear reports from five ACBSCT Work Groups: Cord Blood Bank Collections, Realizing the Potential of Cord Blood, Scientific Factors Necessary to Define a Cord Blood Unit as High Quality, Cord Blood Thawing and Washing, and Access to Transplantation. The Council also will hear presentations and discussions, which may include the following topics: CAO study and report; FDA licensure and unmet need.

The public can join the meeting by:

1. Calling Conference Phone Number: 888-790-3527 and providing Participant Code: 8064893, for the audio portion, AND

2. Connecting to the ACBSCT Adobe Connect Pro Meeting for the visual portion using the following URL: https://hrsa.connectsolutions.com/acbsct/ (if the link does not work, copy and paste it into your browser). The conference call leader is Patricia A. Stroup.

Call (301) 443-0437 or send an e-mail to ptongele@hrsa.com if you are having trouble connecting to the meeting site.

Participants should call no later than 9:45 am EDT in order for logistics to be set up.

If you have never attended an Adobe Pro Connect Meeting, please test your connection using the following URL: https://hrsa.connectsolutions.com/common/help/en/support/meeting_test.htm.

For quick overview, please access: http://www.adobe.com/go/connectpro_overview. Those planning to participate are asked to complete and submit an online registration form by visiting our Web site at http://www.ACBSCT.com and selecting the tab titled “Registration.” Individuals with no Internet access should request the registration form by contacting Gabrielle Kardolus at (301) 585-1261 or at Gabrielle.Kardolus@luxcg.com and fax the registration form to Gabrielle Kardolus at (301) 585-7741. The registration deadline is November 2, 2011. The next face-to-face ACBSCT meeting is planned for Spring 2012. Details regarding the next meeting will be published in a subsequent Federal Register notice.

Public Comment: Persons interested in providing an oral presentation should submit a written request, along with a copy of their presentation to: Passy Tongele, DoT, Healthcare Systems Bureau (HSB), Health Resources and Services Administration (HRSA), Room 12C-06, 5600 Fishers Lane, Rockville, Maryland 20857 or e-mail: ptongele@hrsa.gov. Requests should contain the name, address, telephone number, e-mail address, and any business or professional affiliation of the person desiring to make an oral presentation. Groups having similar interests are requested to combine their comments and present them through a single representative. The allocation of time may be adjusted to accommodate the level of expressed interest. Persons who do not file an advance request for a presentation, but desire to make an oral statement, may announce it at the time of the public comment period. Public participation and ability to comment will be limited to space and time as it permits.

For Further Information Contact: Patricia Stroup, Executive Secretary, Healthcare Systems Bureau, Health Resources and Services Administration, 5600 Fishers Lane, Room 12C-06, Rockville, Maryland 20857; telephone (301) 443-1127.

Dated: October 3, 2011.
Reva Harris,
Acting Director, Division of Policy and Information Coordination.

[FR Doc. 2011-26168 Filed 10-7-11; 8:45 am]

BILLING CODE 4165-15-P